DEPARTMENT OF COMMERCE

International Trade Administration

Ports and Maritime Technology Trade Mission to India

AGENCY: International Trade Administration, Department of Commerce.

ACTION: Notice.

Mission Description

The United States Department of Commerce (DOC), International Trade Administration (ITA), U.S. and Foreign Commercial Service (CS), is organizing an executive-led Ports and Maritime Technology Trade Mission to India from February 20 to 24, 2012. The purpose of the mission is to introduce U.S. firms to India's rapidly expanding port and maritime technology market and to assist U.S. companies pursue export opportunities in this sector. The mission to India is intended to include representatives from leading U.S. companies that provide state-of-the-art cargo handling equipment, port security and maritime technology equipment. The mission will visit three cities, Chennai, Ahmedabad and Mumbai, where participants will receive market briefings and participate in customized meetings with key port officials and prospective partners. In Mumbai the trade mission will coincide with Reed Exhibitions' Shipping, Transport & Logistics (SITL) trade show, which takes place February 23 to 25. Trade mission participants will also have the option to begin their trip with a visit to Kolkata, where CS Kolkata will arrange meetings with public sector port officials from the states of West Bengal and Orissa.

The mission will help participating firms gain market insights, make industry contacts, solidify business strategies, and advance specific projects, with the goal of increasing U.S. exports to India. The mission will include one-on-one business appointments with pre-screened potential buyers, agents, distributors and joint venture partners; meetings with national and regional government officials; and networking events. Participating in an official U.S. industry delegation, rather than traveling to India on their own, will enhance the companies' ability to secure meetings in India.

Commercial Setting

India, one of the world's fastest growing economies, presents lucrative opportunities for U.S. companies that offer products and services in the maritime transport industry. Maritime transport is key to India's external trade. There are 13 major (national government control) and 187 minor (local state/private control) ports across India's extensive, 7,000 kilometers coastline. Traffic at these ports has been steadily increasing and is expected to continue growing. To meet the anticipated growth in traffic the major and minor ports have formulated plans for the development of new terminals, upgrading existing berths and modernizing operations by including state of the art cargo handling equipment, tracking systems, deepening of channels, and widening of roads. According to an Ernst and Young report, the majority of cargo-handling equipment at Indian ports was commissioned long ago and has outlived its life span.¹ In January 2011 the Government of India announced a new shipping sector policy that entails an investment of $66 billion in the port sector and $27 billion for the shipping sector. This new policy proposes to increase India's port capacity from 1 billion tons to 3.2 billion tons by 2020. To explore these opportunities the trade mission will visit three cities as described below.

¹ The Indian Ports and Shipping Sector. Rep. Ernst and Young, Aug. 2010. Web. 12 Sept. 2011. http://www.ey.com/Publication/vwLUAssets/Ports_and_shipping_-_August_2010/$FILE/Ports-and-shipping-August-2010.pdf.

Chennai, Tamil Nadu

The state of Tamil Nadu has 3 major ports (Chennai, Tuticorin and Ennore) and 17 minor ports. The major ports are under the control of Government of India. The minor ports are under the control of Tamil Nadu Maritime Board. Port development plans in the state of Tamil Nadu include:

• The Ennore Port announced an investment plan of over $1.2 billion.

• The Chennai Port has an investment plan of over $2.3 billion.

• The Tuticorin Port announced an investment plan of $1.4 billion.

• The Kattupalli Shipyard is a mega project with the first phase aiming to be operational by January 2012. The first phase will have a 1.2 million TEU capacity through two 350-m-long berths and a total terminal area of approximately twenty hectares. The terminal has an option to increase to 1.8 million TEU capacity during the second phase of development.

• The Thirukkuvalai Port is a deep-water multi-modal port being developed as a part of an integrated port and power project in Nagapattinam. The entire project will entail an investment of approximately $2 billion.

Ahmedabad, Gujarat

The state of Gujarat has one major port (Mundra) and 41 minor ports. Gujarat is an industrial powerhouse where many multinational corporations have established manufacturing facilities. Gujarat is strategically located with India's longest coastline of 1600 km and is the nearest maritime outlet to the Middle East, Africa and Europe. Gujarati has two privately managed LNG terminals and one of the world's largest ship recycling yards at Alang. Gujarat ports handle almost 33% of India's cargo. Ahmedabad is the home of Gujarat's State Maritime Board. Minor ports in Gujarat have a total capacity of 244 million tons (mt) and handle a cargo volume of 206 mt. This is 70% of the volume handled by all minor ports in the country. Gujarat plans to expand its private port capacity to 586 mt in five years.

Mumbai, Maharashtra

Mumbai, located in the state of Maharashtra, is the commercial and financial capital of India. In Mumbai there are two ports: The Mumbai Port Trust (MPT) and Jawaharlal Nehru Port Trust (JNPT). In addition, there are 53 minor ports located throughout Maharashtra. JNPT is the country's largest container port, with container traffic of over 4.1 million 20-foot-equivalent unit (TEUs) in 2009-2010. It also ranks among the top 30 container ports in the world. JNPT is now proposing the development of a fourth terminal through private partnership. This fourth terminal is crucial as the other three terminals are working beyond capacity and its development will take the port's capacity to 10.35 million TEUs from 4 million TEUs. Currently JNPT has invited bids to award the contract to operate the fourth terminal. In addition, JNPT is planning a new mega port project at Nhava Island (near Mumbai) which will have a capacity of 6 to 9 million TEUs per annum. The project plans also include other facilities including a ship repair yard.

Kolkata, West Bengal

As an optional stop, delegates can elect to visit Kolkata prior to the official start of the trade mission. A minimum five companies will be required to organize the stop in Kolkata. A description of the Kolkata Port and expansion plans is below.

• The Kolkata Port Trust (http://www.kolkataporttrust.gov.in) consists of Kolkata dock system and Haldia Dock System. The infrastructure includes 33 berths, 5 dry docks, 6 petroleum wharfs, 3 barge jetties and 3 oil jetties. It is the largest dry dock facility in India and handled 46.5 million tons of cargo in year 2010.

• Over 3,500 vessels were handled at the Kolkata Port during 2009-2010, which was the highest amongst all Indian major ports (17% of the total number of vessels at Indian ports).

• Upcoming projects include: A new proposed river port for handling 20 MT to meet the demand of imported coal; a container terminal at Diamond Harbor having potential to handle 1 million TEU per annum and a trans-loading facility; and, a plan for deep sea port with 10-12 berths for handling 60 million tons.

• The Kolkata Port spends over $130 million per annum for dredging of the river and sea mouth. Only European companies currently participate in this project, and the Kolkata Port would like to see U.S. participation.

• Opportunities exist for U. S. companies in consulting, equipment supply, barge facility, dredging services and vessel traffic management systems.

• The adjoining state of Orissa in the east coast is also part of the Kolkata Port Trust area. In Orissa, the Paradeep Port (http://www.paradipport.gov.in) is the largest port in terms of bulk cargo handling and Dhamra (http://www.dhamraport.com) is the minor port. Planned projects include Gopalpur (http://www.gopalpurports.com) and Posco.

Mission Goals

The goal of the Ports and Maritime Technology Trade Mission to India is to provide U.S. participants with first-hand market information, one-on-one meetings with business contacts, including potential agents, distributors and partners so they can position themselves to enter or expand their presence in the Indian market. Subject to prior consultation and confirmations, mission participants will have the opportunity to explore contacts with local firms active in India. Also, to help U.S. equipment and service providers initiate and/or expand their exports to India the U.S. Commercial Service will introduce Trade Mission participants to:

• Officials at major ports who are seeking to upgrade their container-handling equipment and decision makers responsible for port security, port management services and maritime technology.

• Officials at privately-owned minor ports who are seeking to procure equipment such as cargo handling equipment, security equipment including scanners, cranes, navigational aids, as well as developing ship repair and ship building facilities.

Mission Scenario

The mission will start in Chennai, where participants will meet with officials from the state of Tamil Nadu, the Tamil Nadu Maritime Board, potential private sector partners and visit a major port. Next, the participants will visit Ahmedabad where they will meet with private sector port developers and officials from the Gujarat Maritime Board. In Mumbai the participants will meet with the Maharashtra Maritime Board, JNPT officials and private sector port developers.

In Mumbai the delegates will have the option of participating in the SITL trade show, which will take place February 23-25. SITL India aims to provide a much needed platform for the industry. The event features 5 sectors of activity covering the complete chain:

• Transport and logistics services,

• Logistics infrastructure,

• Logistics real estate,

• Transport and logistics information systems and technologies,

• And materials handling equipment and systems.

The matchmaking meetings in Mumbai will not be held at SITL. Companies may elect to have a half-day of matchmaking meetings and attend SITL for the other half of the day, or they can choose to only participate in one of these activities. The mission fee will not cover registration fees for SITL.

Trade mission delegates will have the option of visiting Kolkata before the official start of the mission in Chennai. In Kolkata, they will meet with Kolkata Port Authorities, port operators and private companies involved in the port business. They will also meet with other American companies operating in Kolkata and with Consulate representatives for an overview.

The participants will also attend policy, market and commercial briefings by the U.S. Commercial Service as well as networking events offering further opportunities to speak with private and government port officials as well as potential distributors and agents. U.S. participants will be counseled before and after the mission by CS India staff. Participation in the mission will include the following:

• Pre-travel briefings on subjects ranging from business practices in India to security;

• Pre-scheduled meetings with port officials (government and private), potential partners distributors, end users, and local industry contacts in Chennai, Ahmedabad, and Mumbai;

• Airport transfers in Chennai, Ahmedabad, and Mumbai;

• Meetings with state maritime boards and government officials;

• Participation in a networking reception in Chennai and Mumbai; and participation in one-on-one business meetings with potential clients, partners and distributors.

Proposed Timetable
Thursday, February 16, 2012 (Optional) | Kolkata
| • Delegates arrive in Kolkata/check-in and rest overnight.
Friday, February 17, 2012 (Optional) | Kolkata
| • Meeting with AMCHAM and the U.S. Consulate.
| • Port visit.
Saturday, February 18, 2012 (Optional) | Kolkata
| • Meetings with Kolkata Port Authorities and port operators.
| • Evening travel to Chennai—check-in and rest overnight.
Sunday, February 19, 2012 | Chennai
| • Open Schedule.
Monday, February 20, 2012 | Chennai
| • Briefing with U.S. Consulate.
| • Meetings with State Maritime Board.
| • Business matchmaking sessions.
| • Networking reception.
Tuesday, February 21, 2012 | Chennai/Ahmedabad
| • Site visit to Chennai port.
| • Evening travel to Ahmedabad.
Wednesday, February 22, 2012 | Ahmedabad/Mumbai
| • Briefing/meeting with State Maritime Board.
| • Business matchmaking sessions.
| • Evening travel to Mumbai.
Thursday, February 23, 2012 | Mumbai
| • Briefing with U.S. Consulate.
| • Meeting with Indian Private Ports and Terminals Association.
| • Business matchmaking sessions.
| • Networking Reception.
| • Optional participation in SITL.
Friday, February 24, 2012 | • Site visit to JNTP port.
| • Optional participation in SITL.
| • Official program concludes.

Participation Requirements

All parties interested in participating in the trade mission must complete and submit an application package for consideration by DOC. All applicants will be evaluated on their ability to meet certain conditions and best satisfy the selection criteria as outlined below. U.S. companies already doing business with India as well as U.S. companies seeking to enter to the Indian market for the first time may apply. A minimum of 15 and a maximum of 20 companies will be selected for participation in this mission.

Fees and Expenses

After a company has been selected to participate on the mission, a payment to the DOC in the form of a participation fee is required. The participation fee is $3,760 for large firms and $3,560 for a small or medium-sized enterprise (SME),² which covers one representative. The fee for each additional representative is $750. The fee for the optional stop in Kolkata is $600 for large firms and $450 for SMEs, which covers one representative. The fee for additional representatives in Kolkata is $200.

² An SME is defined as a firm with 500 or fewer employees or that otherwise qualifies as a small business under SBA regulations (see http://www.sba.gov/services/contracting_opportunities/sizestandardstopics/index.html). Parent companies, affiliates, and subsidiaries will be considered when determining business size. The dual pricing reflects the Commercial Service's user fee schedule that became effective May 1, 2008 (see http://www.export.gov/newsletter/march2008/initiatives.html for additional information).

Participants in SITL in Mumbai will pay show-related expenses directly to the show organizer. Expenses for travel, lodging, meals, and incidentals will be the responsibility of each mission participant. Delegation members will be able to take advantage of U.S. Embassy rates for hotel rooms.

Conditions for Participation

• An applicant must submit a completed and signed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria for Participation

• Suitability of the company's products or services to the market.

• Applicant's potential for business in India and in the region, including likelihood of exports resulting from the mission.

• Consistency of the applicant's goals and objectives with the stated scope of the mission.

Diversity of company size, sector or subsector, and location may also be considered during the review process.

Referrals from political organizations and any documents containing references to partisan political activities (including political contributions) will be removed from an applicant's submission and not considered during the selection process.

Timeframe for Recruitment and Applications

Mission recruitment will be conducted in an open and public manner, including publication in the Federal Register, posting on the Commerce Department trade mission calendar (http://www.ita.doc.gov/doctm/tmcal.html) and other Internet Web sites, press releases to general and trade media, direct mail, notices by industry trade associations and other multiplier groups, and publicity at industry meetings, symposia, conferences, and trade shows. Recruitment for the mission will conclude no later than November 18, 2011. All applicants will be vetted by the Department of Commerce after November, 18. Applications received after November 18, 2011 will be considered only if space and scheduling constraints permit.

Contacts

U.S. Commercial Service India

Aliasgar Motiwala, U.S. Commercial Service, Mumbai, India, Tel: +91-22-2265-2511, E-mail: aliasgar.motiwala@trade.gov.

U.S. Commercial Service Washington, DC

David McCormack, U.S. Commercial Service, Washington, DC, Tel: 202-482-2833, E-mail: david.mccormack@trade.gov.

Elnora Moye,
Commercial Service Trade Mission Program, U.S. Department of Commerce.

[FR Doc. 2011-24296 Filed 9-21-11; 8:45 am]

BILLING CODE 3510-FP-P